GENERAL SERVICES ADMINISTRATION

[GSA Bulletin FMR G-01]

Federal Management Regulation; Conversion to Commercial Payment Processes for Postage

AGENCY: Office of Governmentwide Policy, General Services Administration (GSA).

ACTION: Notice of a bulletin.

SUMMARY: The attached bulletin provides updated information to Federal agencies regarding the initiative to convert to commercial payment processes for postage. GSA Bulletin FMR G-01 may also be found at www.gsa.gov/fmrbulletin.

DATES: This bulletin announced is effective from April 11, 2008 until April 13, 2009.

FOR FURTHER INFORMATION CONTACT: For clarification of content, contact Derrick Miliner, Program Director, Mail Management Policy, Office of Governmentwide Policy, General Services Administration, Washington, DC 20405, at (202) 273-3564 or derrick.miliner@gsa.gov. Please cite Bulletin FMR G-01.

SUPPLEMENTARY INFORMATION:

A. Background

Section 102-192.50(c) of the Federal Management Regulation (FMR) (41 CFR 102-192.50(c)) states that “beginning December 31, 2003, all payments to the United States Postal Service must be made using commercial payment processes, not OMAS” (Official Mail Accounting System). If agencies did not convert by that date, they were required to submit a deviation request for an extension. If granted, the deviations could last for no longer than a two-year period, at which time agencies had to request another deviation.

Dated: April 11, 2008.
KEVIN MESSNER,
Acting Associate Administrator, Office of Governmentwide Policy.

GENERAL SERVICES ADMINISTRATION

GSA BULLETIN FMR G-01

MAIL MANAGEMENT

TO: Heads of Federal agencies

SUBJECT: Conversion to Commercial Payment Processes for Postage

1. What is the purpose of this bulletin? This bulletin provides updated information to Federal agencies regarding the initiative to convert to commercial payment processes for postage.

2. What is the effective date of this bulletin? April 11, 2008.

3. When does this bulletin expire? This bulletin will expire April 13, 2009.

4. What is the background of this bulletin? Section 102-192.50(c) of the Federal Management Regulation (FMR) (41 CFR 102-192.50(c)) states that “beginning December 31, 2003, all payments to the United States Postal Service must be made using commercial payment processes, not OMAS” (Official Mail Accounting System). If agencies did not convert by that date, they were required to submit a deviation request for an extension. If granted, the deviations could last for no longer than a two-year period, at which time agencies had to request another deviation.

5. What is the current status of agencies in regards to conversion to commercial payment?

While many agencies have successfully converted to commercial payment, several have not yet done so, or have only partially done so.

Some agencies state that they can show accountability for postage using OMAS and have asked the General Services Administration (GSA) to review the goals of the commercial payment initiative. GSA has agreed to do so.

6. What should agencies do if they need to submit an updated deviation request while GSA reviews the goals of the commercial payment initiative?

Agencies that have outstanding deviation requests, or that need to submit a deviation request soon, do not need to submit a formal updated deviation request during the time period covered by this bulletin. GSA is granting these agencies an automatic 12-month deviation. Agencies that have current unexpired deviations on file that last beyond the 12-month period do not need to take any additional action.

7. When should agencies expect to hear the results of the review?

Before the 12-month period is complete, GSA will issue additional guidance if in fact there are new options for showing accountability for postage costs besides converting to commercial payment. If, after review, GSA determines there are no additional options, agencies will be expected to proceed toward conversion.

8. Whom should I contact for further information? Derrick Miliner, Program Manager, Mail Management Policy, Office of Governmentwide Policy, General Services Administration, Washington, DC 20405, derrick.miliner@gsa.gov, (202) 273-3564.

[FR Doc. E8-10654 Filed 5?-12-08; 8:45 am]

BILLING CODE 6820-14-S